PUBLIC BUILDINGS REFORM BOARD

Notice of Public Meeting

AGENCY: Public Buildings Reform Board.

ACTION: Notice of public meeting.

SUMMARY: As provided by the Federal Assets Sale and Transfer Act of 2016 (FASTA), the Public Buildings Reform Board (PBRB) is holding its seventh public meeting. At this meeting, the Board will discuss the High Value Asset Round and the First Round recommendations of sales, consolidations, property disposals, and redevelopment due in December 2021.

DATES: The meeting is scheduled for Thursday, October 28, 2021, from 2:00 p.m. to 3:30 p.m. (Eastern Daylight Time).

ADDRESSES: Due to public health concerns driven by the COVID-19 pandemic, this meeting will be open to the public virtually via WebEx. Thirty-five in person attendees will also be permitted to attend the meeting at: 2020 K St. NW, 11th Floor, Washington, DC 2006

FOR FURTHER INFORMATION CONTACT: Gail Fisher, Contractor, Public Buildings Reform Board, 202-714-9060, or questions and comments can be forwarded to the PBRB Team by email at fastainfo@pbrb.gov.

SUPPLEMENTARY INFORMATION:

Background

FASTA created the PBRB as an independent Board to identify opportunities for the Federal government to significantly reduce its inventory of civilian real property and thereby reduce costs. The Board is directed, within 6 months of its formation, to recommend to the Office of Management and Budget (OMB) the sale of not fewer than five properties not on the list of surplus or excess with a fair market value of not less than $500 million and not more than $750 million. In two subsequent rounds over a five-year period, the Board is responsible for making recommendations for other sales, consolidations, property disposals or redevelopment of up to $7.25 billion.

Format and Registration: The format for the meeting will be panel discussions with appropriate time allowed for a Q&A segment. Interested participants must register for the public meeting via this link: https://www.eventbrite.com/x/public-buildings-reform-board-public-meeting-tickets-186932298537.

Individuals wishing to attend who require special assistance or accommodations must contact the PBRB Team at fastainfo@pbrb.gov at least 12 days prior to the event. Portions of the meeting may be held in executive session if the Board is considering issues involving classified or proprietary information.

A transcript of the public meeting will be uploaded to pbrb.gov shortly after the session. If you have any additional questions, please email fastainfo@pbrb.gov.

Authority: Pub. L. 114-287, 130 Stat 1463.

Adam Bodner,
Executive Director, Federal Register Liaison, Public Buildings Reform Board.

[FR Doc. 2021-22328 Filed 10-13-21; 8:45 am]

BILLING CODE P